DEPARTMENT OF ENERGY

Energy Information Administration

Agency Information Collection Activities: Proposed Collection; Comment Request

AGENCY: Energy Information Administration, DOE.

ACTION: Agency information collection activities: Proposed collection; comment request.

SUMMARY: The Energy Information Administration (EIA) is soliciting comments on the proposed changes and extension for three years beyond the current expiration of the Forms EIA-851, “Domestic Uranium Production Report,” and EIA-858, “Uranium Industry Annual Survey.”

DATES: Written comments must be submitted on or before April 17, 2000. If you anticipate difficulty in submitting comments within that period, contact the person listed below as soon as possible.

ADDRESSES: Send comments to Douglas Bonnar, Office of Coal, Nuclear, Electric and Alternate Fuels, EI-52, Forrestal Building, U.S. Department of Energy, Washington, D.C. 20585. Alternatively, Mr. Bonnar may be reached by phone at 202-426-1249, by e-mail to douglas.bonnar@eia.doe.gov, or by FAX 202-426-1311.

FOR FURTHER INFORMATION CONTACT: Requests for additional information or copies of the form and instructions should be directed to Douglas Bonnar at the address listed above.

SUPPLEMENTARY INFORMATION:

I. Background

II. Current Actions

III. Request for Comments

I. Background

The Federal Energy Administration Act of 1974 (Pub. L. 93-275, 15 U.S.C. 761 et seq.) and the Department of Energy Organization Act (Pub. L. 95-91, 42 U.S.C. 7101 et seq.) require the Energy Information Administration (EIA) to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3507(h) of the Paperwork Reduction Act of 1995.

The EIA-851 collects data on uranium production at conventional mills and nonconventional plants (byproduct recovery and in-situ leach plants). The Form EIA-858 collects data on uranium raw materials activities (Schedule A) and uranium marketing activities (Schedule B). Data collected on these forms provide a comprehensive statistical characterization of the domestic uranium industry. Published data from these surveys are used by Congress, Federal and State agencies, the uranium and nuclear-electric industries, and the general public. Published data appear in the EIA publications, “Uranium Industry Annual,” and the “Annual Energy Review.”

II. Current Actions

This action is an extension with minor changes proposed to the existing collections. In keeping with its mandated responsibilities, EIA proposes to extend the information collection aspects of EIA-851, “Domestic Uranium Production Report,” and EIA-858, “Uranium Industry Annual Survey” for three years from the currently approved OMB expiration date (10/31/2000).

Proposed change in the EIA-858 Schedule B and Instructions: Replace “Utilities” with “Owners or Operators of Civilian Nuclear Power Reactors,” in Item 2 “Enrichment Services Purchases by Utilities;” Item 4 “Utility Uranium Inventory Policy;” and Item 5 “Uranium Used in Fuel Assemblies in the Survey Year (Utilities Only)” because of recent civilian nuclear reactor ownership by nonutility power producers.

Recommended change to the EIA-858 computer processing system: Transfer the EIA-858 form from DOS-based to Windows-based program and/or consider an optional collection of data through the Internet.

Recommended changes in the EIA-858 Schedule B and Instructions:

(1) Change the country codes to be consistent with the Nuclear Regulatory Commission in Item 1E “Country Codes.”

(2) Delete the market-related “no floor” and “floor” pricing mechanisms from Item 1F “Uranium Deliveries,” columns 10-11 of “Pricing Mechanisms.”

(3) Have less than the seven different uranium inventory types in Item 3 “Uranium Inventories.”

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the instructions and definitions clear and sufficient? If not, which instructions need clarification?

B. Can the information be submitted by the due date?

C. Public reporting burden for this collection is estimated to average 3 hours per response on Form EIA-851 and 25 hours per response on Form EIA-858. The estimated burden includes the total time, effort, or financial resources expended to generate, maintain, retain, disclose and provide the information. Please comment on the accuracy of the estimate.

D. The agency estimates that the only costs to the respondents are for the time it will take them to complete the collection. Please comment if respondents will incur start-up costs for reporting, or any recurring annual costs for operation, maintenance, and purchase of services associated with the information collection.

E. What additional actions could be taken to minimize the burden of this collection of information? Such actions may involve the use of automated, electronic, mechanical, or other technological collection techniques or other forms of information technology.

F. Does any other Federal, State, or local agency collect similar information? If so, specify the agency, the data element(s), and the methods of collection.

As a Potential User

A. Is the information useful at the levels of detail indicated on the form?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3506 (c)(2)(A) of the Paperwork Reduction Act of 1995 (Pub. L. No. 104-13, 44 U.S.C. Chapter 35).

Issued in Washington, DC., February 10, 2000.
Jay H. Casselberry,
Agency Clearance Officer, Statistics and Methods Group, Energy Information Administration.

[FR Doc. 00-3838 Filed 2-16-00; 8:45 am]

BILLING CODE 6450-01-P